FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
17656NF | Coltrans (USA), Inc., 10925 NW 27th Street, Suite 102, Miami, FL 33172 | November 1, 2003.
16950NF | Global Cargo Corporation, 8470 NW 30th Terrace, Miami, FL 33122 | September 25, 2003.
14125N | Transtainer Corp., 8100 NW 29th Street, Miami, FL 33122 | November 6, 2003.

Sandra L. Kusumoto,
Director, Bureau of Consumer Complaints and Licensing.

[FR Doc. 03-30666 Filed 12-10-03; 8:45 am]

BILLING CODE 6730-01-P